DEPARTMENT OF ENERGY

National Energy Technology Laboratory; Notice of Availability of a Financial Assistance Solicitation

AGENCY: National Energy Technology Laboratory (NETL), Department of Energy (DOE).

ACTION: Notice of availability of a financial assistance solicitation.

SUMMARY: Notice is hereby given of the intent to issue Financial Assistance Solicitation No. DE-PS26-02NT41450 entitled Mining Industry of the Future/mineral Processing Technologies. The U.S. Department of Energy (DOE) Office of Industrial Technologies (OIT) in collaboration with the National Mining Association (NMA) is seeking industry-led proposals for cost-shared research and development of technologies which will reduce energy consumption, enhance economic competitiveness and reduce environmental impacts of the domestic mining industry. The research is to address research priorities identified by the Mining Industry of the Future Mineral Processing Technology Roadmap (the Roadmap can be accessed on the Internet at: http://www.oit.doe.gov/mining/pdfs/mptroadmap.pdf). In particular, the roadmap identifies three (3) areas of mineral processing technology where the most impact and the greatest progress towards the mining vision goals can be expected: (1) Mineral Preparation—typical processes include communition, makedown, classification, and, to some extent, blasting and drilling; (2) Physical Separations—typical processes include flotation, dewatering, thickening or settling, filtering, drying, flocculation, screening, magnetic separation, classification and washing; and (3) Chemical Separations—typical processes include pelletizing or briquetting, smelting, refining, leaching, solvent extraction, bioleaching and electrowinning.

DATES: The solicitation will be available on the “Industry Interactive Procurement System” (IIPS) Web page at http://e-center.doe.gov on or about February 27, 2002. It is further anticipated that applications will be due approximately ninety (90) days from the date the solicitation is released. Applicants can download the solicitation from the IIPS Internet address above or obtain access through DOE/NETL's Web site at http://www.netl.doe.gov/business. Paper copies are not available.

FOR FURTHER INFORMATION CONTACT: Donna Jaskolka, Contract Specialist, MS 921-107, U.S. Department of Energy, National Energy Technology Laboratory, Acquisition and Assistance Division (BL-10), P.O. Box 10940, Pittsburgh, PA 15236-0940, E-mail Address: jaskolka@netl.doe.gov

SUPPLEMENTARY INFORMATION: The DOE Office of Industrial Technologies does not fund product development R&D. Applications submitted in response to this solicitation will only be funded if the proposed research and development addresses improving the energy efficiency of mineral processing technologies. Applications for literature reviews only will not be considered. Additionally, applications offering emissions or waste disposal, remediation, or treatment as a primary focus are not eligible for funding under this solicitation. This limitation does not include applications that target materials recycling or by-product utilization as their primary focus.

The U. S. Congress looks to the Department of Energy (DOE) to work toward improving the energy efficiency of America's most energy-intensive industries with special interest on industrial processing. DOE, through its Office of Industrial Technologies (OIT), supports industries in their efforts to increase energy efficiency, reduce waste, and increase productivity. The goal of OIT is to accelerate the development and use of advanced, energy efficient, renewable, and pollution prevention technologies that benefit industry, the environment, and U.S. energy security. OIT's core program is the Industries of the Future (IOF) Program that focuses on basic materials and processing industries such as the Mining Industry. In June 1998, the National Mining Association (NMA) and the Secretary of Energy signed a Compact pledging to work together through research and development partnerships. The objective of Solicitation No. DE-PS26-02NT41450 is another step in continuing to support this pledge by funding research and development projects which address research needs described in the Mineral Processing Technology Roadmap. The three key industry-identified areas, as presented in the Mineral Processing Technology Roadmap and which form the bases for the areas of interest under this solicitation, are: Mineral preparation, physical separations, and chemical separations. Additional background information is provided in the National Mining Association's Report, “The Future Begins with Mining, A Vision of the Mining Industry of the Future (Sept. 1998)”, which can be accessed at: http://www.oit.doe.gov/mining/pdfs/vision.pdf. No fiscal year 2002 (FY02) funds are available for this solicitation; selection and negotiation of successful offers leading to award of cost-shared financial assistance cooperative agreements is subject to availability of funding in FY03 and beyond. An estimated $3.9 million in DOE funds is planned for this initiative as follows: approximately $1.3 million in FY03; $1.4 million in FY04; and $1.2 million in FY05. Selection of successful offers are expected to be made on or before January 1, 2003, subject to availability of funding, with completion of negotiations and issuance of awards anticipated to occur within a reasonable timeframe thereafter. Multiple (three to ten) awards are contemplated.

A minimum fifty percent (50%) cost-share is required, i.e., if the total proposed project cost is estimated as $2 million, the government's share would be no more than $1 million and the recipient's share would be no less than $1 million.

Any for-profit or non-profit organization, university or other institution of higher education, or non-federal agency or entity is eligible to apply, unless otherwise restricted by the Simpson-Craig amendment. Applicants for financial assistance under this solicitation are subject to the eligibility requirements of section 2306 of the Energy Policy Act of 1992 (EPAct), Foreign Company Participation. EPAct provides further guidelines for companies who apply for financial assistance herein where the company's participation is to be in the economic interest of the U.S. and the company must either be U.S.-owned or incorporated in the U.S. with its parent company incorporated in a country that provides similar protections and privileges under U.S. law. Applications submitted by or on behalf of (1) Another Federal agency, a Federally-funded Research and Development Center (FFRDC) or (3) a DOE Management and Operating (M&O) contractor will not be eligible for award under this solicitation. However, these organizations may be proposed as team members subject to the guidelines provided in the solicitation. Applicants must include at least two (2) mining companies as members of the multi-disciplinary team. Multi-partner collaborations are encouraged.

Once released, the solicitation will be available for downloading from the Industry Interactive Procurement System (IIPS) Internet page (http://e-center.doe.gov). You must register with IIPS, to enable you to submit an application. If you need technical assistance in registering, or for any other IIPS function, call the IIPS Help Desk at (800) 683-0751 or E-mail the Help Desk personnel at IIPS_HelpDesk@e-center.doe.gov (do not contact the Contract Specialist). The solicitation will only be made available through IIPS, no hard (paper) copies of the solicitation and related documents will be distributed.

Prospective applicants who would like to be notified as soon as the solicitation is available should subscribe to the Business Alert Mailing List at http://www.netl.doe.gov/business. Once you subscribe, you will receive an announcement by E-mail that the solicitation has been released to the public. Telephone requests, written requests, e-mail requests, or facsimile requests for a copy of the solicitation package will not be accepted and/or honored. Applications must be prepared and submitted in accordance with the instructions and forms referenced in the solicitation. The actual solicitation document will allow for requests for explanation and/or interpretation.

Issued in Pittsburgh, PA, on February 14, 2002.
Dale A. Siciliano,
Deputy Director, Acquisition and Assistance Division.

[FR Doc. 02-4393 Filed 2-22-02; 8:45 am]

BILLING CODE 6450-01-P